ENVIRONMENTAL PROTECTION AGENCY

40 CFR Part 300

[EPA-HQ-SFUND-2000-0007; FRL-9997-04-Region 8]

National Oil and Hazardous Substances Pollution Contingency Plan; National Priorities List: Deletion of the Intermountain Waste Oil Refinery Superfund Site

AGENCY: Environmental Protection Agency (EPA).

ACTION: Proposed rule; notice of intent.

SUMMARY: The Environmental Protection Agency (EPA) Region 8 is issuing a Notice of Intent to Delete Intermountain Waste Oil Refinery Superfund Site (Site) located in Bountiful City, Davis County, Utah, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Utah, through the Utah Department of Environmental Quality (UDEQ), have determined that all appropriate response actions under CERCLA, other than operation and maintenance and five-year reviews, have been completed. However, this deletion does not preclude future actions under Superfund.

DATES: Comments must be received by August 22, 2019.

ADDRESSES: Submit your comments, identified by Docket ID no. EPA-HQ-SFUND-2000-0007 by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

• Email: waterman.erna@epa.gov.

• Mail: Erna Waterman, Remedial Project Manager, U.S. EPA, Region 8, Mail Code 8SEM-RB, 1595 Wynkoop Street, Denver, CO 80202-1129.

• Hand delivery: U.S. EPA, Region 8 1595 Wynkoop Street, Mailcode: SEM-RB, Denver, CO 80202-1129. Such deliveries are only accepted during the Docket's normal hours of operation, and special arrangements should be made for deliveries of boxed information.

Instructions: Direct your comments to Docket ID no. EPA-HQ-SFUND-2000-0007. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: Utah Department of Environmental Quality, 168 North 1950 West, Salt Lake City, UT 84116; Phone: (801-944-7641); Hours: M-Th: 9 a.m.-9 p.m.; Fri-Sat: 9:00 a.m.-5:30 p.m.

FOR FURTHER INFORMATION CONTACT: Erna Waterman, Remedial Project Manager, U.S. Environmental Protection Agency, Region 8, Mailcode: SEM-RB, Denver, CO 80202, (303) 312-6762, email: waterman.erna@epa.gov.

SUPPLEMENTARY INFORMATION:

Table of Contents

I. Introduction

II. NPL Deletion Criteria

III. Deletion Procedures

IV. Basis for Intended Site Deletion

I. Introduction

EPA Region 8 announces its intent to delete the Intermountain Waste Oil Refinery Superfund Site from the National Priorities List (NPL) and requests public comment on this proposed action. The NPL constitutes appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Intermountain Waste Oil Refinery Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures in not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State before developing this Notice of Intent to Delete.

(2) EPA has provided the state 30 working days for review of this notice prior to publication of it today.

(3) In accordance with the criteria discussed above, EPA has determined that no further response is appropriate.

(4) The State of Utah, through the UDEQ, has concurred with deletion of the Site from the NPL.

(5) Concurrently with the publication of this Notice of Intent to Delete in the Federal Register, a notice is being published in a major local newspaper, the Davis Clipper. The newspaper notice announces the 30-day public comment period concerning the Notice of Intent to Delete the site from the NPL.

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides EPA's rationale for deleting the Site from the NPL.

Site Background and History

The two-acre Superfund Site Intermountain Waste Oil Refinery is located in the City of Bountiful, in Davis County, Utah. The site was originally part of a brick manufacturing facility that encompassed about 20 acres. In the 1950s, an asphalt business was operated at the site. In 1957, a trucking business that hauled various petroleum products to customers opened and continued operating for approximately 35 years before closing in May 1993. During the 1970s, an oil blending business operated on the property. The operation involved blending green bottoms, purportedly a fraction of crude oil with diesel fuel, which was sold for dust control at coal mines. Over the subsequent years, used oil was treated onsite and was sent to cement facilities for use as fuel in cement kilns. Aboveground storage tanks used in the operations had an unlined secondary surface impoundment. Waste sludge produced in the operations was reportedly disposed of in an offsite landfill, and wastewater that may have remained after the treatment process was boiled off at the site.

The site owners began dismantling the facility in 1993. Some of the waste was consolidated into a waste pile of approximately 100 cubic yards, located on the east portion of the site. The remainder of the site was covered with approximately 2 inches of gravel‐type backfill. Due to unknown operations at the site, the groundwater became contaminated with several solvents, mainly trichloroethylene (TCE) and hydrocarbons. The source of the TCE was processes which occurred in the storage tank area or the laboratory equipment.

The Site consists of two Operable Units (OUs). OU1 addressed soils, subsurface soils, and potential onsite contaminant sources including tanks, drums, and containers. OU2 addressed contaminants found in the ground water, mainly TCE, that were above drinking water standards and the risk-based levels of concern. Investigations at the Site showed that groundwater and soils were contaminated with processing and disposal of waste products have resulted in contamination of soils and groundwater at the Site. The EPA proposed the site to the National Priorities List (NPL) as The Intermountain Waste Oil Refinery on 10/22/1999 (64 FR 56992) and listed the Site as final on in the NPL on 5/11/2000 (65 FR 30482). The EPA assigned the site CERCLIS ID UT0001277359.

The first removal action of the property occurred in August 2001. Potential sources of soil and/or groundwater contamination such as laboratory chemicals, tanks, drums, and sump contents, were removed. Additionally, an underground storage tank was removed during field work for the installation of OU2 groundwater monitoring wells.

Remedial Investigation and Feasibility Study (RI/FS)

A Baseline Human Health Risk Assessment (BHHRA), which also included a screening level ecological risk assessment, was completed for OU1. The BHHRA evaluated risks to potential workers and hypothetical future residents and determined that volatile organic compounds (VOCs) in soils could potentially accumulate inside a building and create an unacceptable risk. This risk was primarily due to 1,2,4-trimethylbenzene and 1,3,5-trimethylbenzene, with smaller contributions from naphthalene, hexane, and cis-1,2-dichloroethene in soil at some locations. There were no ecological concerns.

The OU2 BHHRA evaluated exposure pathways for contaminated groundwater at the Site for future or current onsite workers and future residents. The assessment looked at risks from the inhalation and ingestion of contaminated groundwater beneath the IWOR site. Trichloroethylene was the only contaminate of concern identified in groundwater by the risk assessment. Risks from exposure to contaminated groundwater were determined to be above a level of concern for non-cancer and cancer risks.

Selected Remedy

EPA issued a Record of Decision (ROD) for OU1, dated November 26, 2002, to address soils, subsurface soils, and potential onsite contaminant sources including tanks, drums, and containers. Remedial action objectives (RAOs) identified in the ROD include:

• Prevent exposure of workers and future residents from inhalation of contaminated vapors intruding from soil to indoor air. Non-cancer risks should be reduced to within or below a level of concern (HQ<1); and

• Remove potential sources of soil and/or groundwater contamination.

The remedy selected in the OU1 ROD consisted of two components.

• Establishment of land use controls that require buildings built, in whole or in part, on the property to have a vapor mitigation system and require that soils excavated during the building or other construction activities will be managed appropriately; and

• Removal of an underground storage tank (UST).

EPA issued a ROD for OU2, on August 4, 2004, to address groundwater and proper disposal of containers in the garage. The RAOs identified in the ROD consisted of the following:

• Restore the aquifer to beneficial use (drinking water standards) within a reasonable time frame;

• Prevent exposure to contaminated ground water through ingestion of contaminated ground water, or inhalation of vapors during use; and

• Prevent the future contamination of ground water that is currently uncontaminated.

The drinking water standard of 5 μg/L for TCE was established in the OU2 ROD as the cleanup level for restoring the aquifer to beneficial use.

The components of the OU2 selected remedy consisted of multiple components.

• Dual phase extraction (DPE) and treatment: Where effective in removing contaminated vapors as well as contaminated ground water, DPE will be used. DPE involves pumping ground water and soil vapors from the same well. Where, or when, there are no significant contaminated soil vapors recovered through DPE, groundwater pump and treatment will be used.

• Land Use Control, or Institutional Control: The land use control will prevent the installation of a drinking water well on the property until drinking water standards are met in the ground water.

• Monitoring: A monitoring plan to evaluate the effectiveness of the remedy will be developed and implemented. The plan will likely include sampling at least four wells monthly for the first six months, and quarterly thereafter.

• Treatment and Discharge: The ground water that is extracted will be treated by a treatment system that uses granular activated carbon to remove the contaminants. The treated water will be discharged to a storm water drain or other approved discharge point.

• Disposal of containers: There are about 25 one to five-gallon containers currently stored in the garage. A number of the containers contain lead-based paint, and most would be classified as a hazardous waste for disposal purposes. Proper disposal now will prevent any potential future risks from mismanagement of these containers.

Response Actions

UDEQ and EPA have both led different aspects of the remediation work, as defined in a cooperative agreement between EPA and UDEQ. Remediation work was conducted in three removal actions: 1. Removal action for property redevelopment in 2001, 2. DPE groundwater remediation from 2004-2006, and 3. the solar powered MicroBlower™ at monitoring well MW-07 to remove TCE from the vadose zone from 2013-2017.

In June 2004, a Dual Phase Extraction (DPE) system was installed on wells as part of a treatability study that was completed during the RI for OU2. The DPE system was shut down in February 2006 after groundwater goals were reached. Groundwater data showed TCE concentrations were below drinking water standards for a period of approximately 18 months. The system was dismantled and removed from the Site in October 2006 and semiannual rebound monitoring and sampling began. From October 2007 to May 2013, TCE concentrations in groundwater periodically exceeded the cleanup goal and drinking water standard of 5 μg/L in four monitoring wells. Based on these exceedances and the findings of a streamlined remediation system evaluation, EPA reinitiated vapor extraction in March 2013 by installing a solar powered MicroBlower™ at monitoring well MW-07 to remove TCE from the vadose zone. The goal of the solar powered extraction system was to remove the residual source of groundwater contamination. Sample results show TCE concentrations in groundwater declined during the operation of the solar panel extraction system.

Institutional Controls

Institutional controls (ICs) were required for both OU1 and OU2 remedies. For OU1, an Environmental Notice and Institutional Control (IC) to require buildings on the IWOR property to have vapor mitigation systems was filed with the Davis County Clerk and Recorder's Office on September 23, 2003. The State of Utah Department of Environmental Quality has the authority to enforce this IC. In 2007, the site was sold to Bountiful Irrigation for redevelopment. The garage, lab, and house were demolished, and the site was graded and all remaining debris from the previous owners was removed. A new office building and garage were constructed, and the site continues to be used as a commercial property for this irrigation business. The office building and garage constructed on the site have active sub-slab vapor mitigation systems.

The IC for OU2 to prevent the installation of a drinking water well on the property until drinking water standards are met in the ground water was filed on July 8, 2005 by the Davis County Clerk and Recorder's Office. The State of Utah Department of Environmental Quality has the authority to enforce this IC.

Operation and Maintenance

As noted, the OU1 ROD required the establishment of ICs to prevent exposure to contaminated materials and to require State review of future changes to land use. ICs that support commercial use were adopted by the property owner and the City of Bountiful. The 2013 Operations and Maintenance (O&M) Plan consists of the groundwater monitoring and sampling.

The O&M Plan states that once TCE concentrations have been below 5 μg/L for two consecutive monitoring and sampling events, the project team may elect to turn off the solar powered vapor extraction system and perform quarterly rebound monitoring. If over a period of two years, no exceedances of 5 μg/L are observed, then site closure can proceed. As a result of abnormally dry and drought conditions, rebound sampling was not completed on a quarterly schedule. However, groundwater samples were collected in December 2015, April 2016, and February 2018, and showed TCE concentrations were below the cleanup goal and drinking water standard of 5 μg/L for TCE. The solar powered vapor extraction system, installed at monitoring well MW-07, was shut down and removed from the Site in January 2017. The Final Close Out Report for the IWOR Site was signed on July 1, 2019.

Five-Year Review

Statutory Five-Year Reviews (FYR) of the site are required because hazardous substances remain on-site above levels which allow for unlimited use and unrestricted exposure. Three FYRs were conducted in 2008, 2013 and 2018. The 2018 FYR found the remedy at the Site to be protective of human health and the environment, with no issues or recommendations. The next five-year review is scheduled to be completed by September 2023.

Community Involvement

Community involvement activities at the Site initially included establishing a local presence by meeting with local property owners and concerned citizens. Outreach efforts included community interviews, fact sheets, letters, flyers, door-to-door visits, public meetings, neighborhood meetings, public comment periods and website updates. The most recent interviews were conducted in the spring 2017 and 2018 for the 2018 FYR. The EPA's Community Involvement criteria associated with 40 CFR 300.425(e)(4) requires EPA to conduct interviews and/or gather community input.

The Site is fully developed for commercial land-use. The successful revitalization of this Site is sustainable, provides valuable reuse, and elevates the quality of life with revitalization for years to come.

Determination That the Site Meets the Criteria for Deletion

The implemented Site-wide remedy achieves the RAOs specified in the OU1 and OU2 RODs for all pathways of exposure. The selected remedy is consistent with CERCLA, the NCP, and EPA policy and guidance. No further Superfund responses are needed to protect human health and the environment at the Site.

The NCP (40 CFR 300.425(e)) states that a site may be deleted from the NPL when no further response action is appropriate. EPA, in consultation with the State of Utah, has determined that all required response actions have been implemented and no further response action by responsible parties is appropriate.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d), 42 U.S.C. 9601-9657; E.O. 13626, 77 FR 56749, 3 CFR 2013 Comp., p. 306; E.O. 12777, 56 FR 54757, 3 CFR, 1991 Comp., p. 351; E.O. 12580, 52 FR 2923, 3 CFR, 1987 Comp., p. 193.

Dated: July 15, 2019.
Gregory E. Sopkin,
Regional Administrator, Region 8.

[FR Doc. 2019-15662 Filed 7-22-19; 8:45 am]

BILLING CODE 6560-50-P